DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of October 2, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Kristin E. Fontenot,
Assistant Administrator, Risk Analysis, Planning & Information Directorate, Federal Emergency Management Agency, Department of Homeland Security.

Community | Community map repository address
Clay County, Alabama and Incorporated Areas
Docket No.: FEMA-B-2177
Unincorporated Areas of Clay County | Clay County Mapping Department, 86842 Alabama Highway 9, Lineville, AL 36266.
Coosa County, Alabama and Incorporated Areas
Docket No.: FEMA-B-2177
Town of Goodwater | City Hall, 22132 Alabama Highway 9, Goodwater, AL 35072.
Town of Rockford | Town Hall, 9688 U.S. Highway 231, Rockford, AL 35136.
Unincorporated Areas of Coosa County | Coosa County Courthouse, 9709 U.S. Highway 231, Rockford, AL 35136.
Talladega County, Alabama and Incorporated Areas
Docket No.: FEMA-B-2177
City of Childersburg | City Hall, 201 8th Avenue SW, Childersburg, AL 35044.
City of Sylacauga | City Hall, 301 North Broadway Avenue, Sylacauga, AL 35150.
Town of Bon Air | Town Office, 227 Front Street, Bon Air, AL 35032.
Unincorporated Areas of Talladega County | Talladega County Highway Department, 820 Alabama Highway 275, Talladega, AL 35160.
Jefferson County, Missouri and Incorporated Areas
Docket No.: FEMA-B-2404
City of Arnold | City Hall, 2101 Jeffco Boulevard, Arnold, MO 63010.
City of Byrnes Mill | City Hall, 141 Osage Executive Circle, Byrnes Mill, MO 63051.
City of Crystal City | City Hall, 130 Mississippi Avenue, Crystal City, MO 63019.
City of De Soto | City Hall, 17 Boyd Street, De Soto, MO 63020.
City of Festus | City Hall, 711 West Main Street, Festus, MO 63028.
City of Herculaneum | City Hall, 1 Parkwood Court, Herculaneum, MO 63048.
City of Hillsboro | City Hall, 101 Main Street, Hillsboro, MO 63050.
City of Pevely | City Hall, 401 Main Street, Pevely, MO 63070.
Unincorporated Areas of Jefferson County | Jefferson County Annex, 725 Maple Street, Hillsboro, MO 63050.
Village of Scotsdale | Jefferson County Annex, 725 Maple Street, Hillsboro, MO 63050.
Oklahoma County, Oklahoma and Incorporated Areas
Docket No.: FEMA-B-1927 and FEMA-B-2416
City of Edmond | Engineering Department, 2824 Progressive Drive, Edmond, OK 73034.
City of Oklahoma City | Public Works Department, 420 West Main Street, Suite 700, Oklahoma City, OK 73102.
Town of Arcadia | Town Hall, 217 North Main Street, Arcadia, OK 73007.
Unincorporated Areas of Oklahoma County | Oklahoma County Engineering and Planning Department, 320 Robert S. Kerr Avenue, Suite 201, Oklahoma City, OK 73102.
Moody County, South Dakota and Incorporated Areas
Docket No.: FEMA-B-2419
City of Colman | City Hall, 112 North Main Avenue, Colman, SD 57017.
City of Egan | City Office, 110 West 3rd Street, Egan, SD 57024.
City of Flandreau | Planning and Zoning, 1005 West Elm Avenue, Flandreau, SD 57028.
Town of Trent | Town Office, 403 East 3rd Street, Trent, SD 57065.
Town of Ward | Community Center, 309 223rd Street, Ward, SD 57026.
Unincorporated Areas of Moody County | Moody County Courthouse, 101 East Pipestone Avenue, Flandreau, SD 57028.

[FR Doc. 2025-08982 Filed 5-19-25; 8:45 am]

BILLING CODE 9110-12-P